NATIONAL SCIENCE FOUNDATION

Advisory Committee for Computer and Information Science And Engineering; Notice of Meeting

In accordance with the Federal Advisory Committee Act (Pub. L. 92-463, as amended), the National Science Foundation announces the following meeting:

Name: Advisory Committee for Computer and Information Science and Engineering (1115).

Date and Time: May 10, 2012 12 p.m.-5:30 p.m., May 11, 2012 8 a.m.-2 p.m.

Place: National Science Foundation, 4201 Wilson Blvd., Room 1235, Arlington VA.

Type of Meeting: Open.

Contact Person: Carmen Whitson, Directorate for Computer and Information Science and Engineering, National Science Foundation, 4201 Wilson Blvd., Suite 1105, Arlington VA 22230. Telephone: (703) 292-8900.

Minutes: May be obtained from the contact person listed above.

Purpose of Meeting: To advise NSF on the impact of its policies, programs and activities on the CISE community. To provide advice to the Assistant Director for CISE on issues related to long-range planning, and to form ad hoc subcommittees to carry out needed studies and tasks.

Agenda: The agenda will comprise of a CISE overview including the status of the current budget priorities, the AC working groups will be reporting out. There will also be preparations for the upcoming COV meetings.

Dated: April 18, 2012.
Susanne Bolton,
Committee Management Officer.

[FR Doc. 2012-9751 Filed 4-23-12; 8:45 am]

BILLING CODE 7555-01-P